DEPARTMENT OF TRANSPORTATION

Office of the Secretary

[Docket No. OST-2006-24502]

Notice Seeking Comments on Data Collection for the Small Community Air Service Development Program, 49 U.S.C. 41743

AGENCY: Office of the Secretary.

ACTION: Notice.

SUMMARY: In accordance with the Paperwork Reduction Act of 1995, this notice announces the Department of Transportation's (DOT) request for comments regarding data collection by the Department under the Small Community Air Service Development Program.

DATES: Comments on this notice must be received by June 19, 2006.

ADDRESSES: You may submit comments identified by DOT DMS Docket Number OST-2006-24502 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except on Federal Holidays.

• Federal eRulemaking Portal: Go to http://www.regulations.gov. Follow the online instructions for submitting comments.

Instructions: All submissions must include the agency name and docket number for this data collection. For detailed instructions on submitting comments, see the Public Participation heading of the Supplementary Information section of this document. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Aloha Ley, Small Community Air Service Development Program, X-50, Office of Aviation Analysis, Office of the Secretary, U.S. Department of Transportation, 400 Seventh Street, SW., Washington, DC 20590, 202-366-2347.

SUPPLEMENTARY INFORMATION: Title: Small Community Air Service Development Program.

OMB Control Number: XXXX-XXXX.

Type of Request: Comments on data collection.

Abstract: The Department of Transportation needs to collect certain information from eligible grant applicants in order to evaluate community proposals for financial grants to address their air service/air fare needs under the criteria set forth in 49 U.S.C. 41743 for the Small Community Air Service Development Program (Small Community Program) (Grant Application Form). In addition, the Department needs to collect information from those communities selected for grant awards regarding improvements to their air services and air fares, the community's expenditures made in conjunction with the authorized air service/fare improvements, and the effectiveness of the expenditures for such service(s). The purpose of these collections is to permit the Department to monitor the effects of the Small Community Program on the use of the air service at the local airport (Enplanement Report); to effectively and efficiently process a community's reimbursement requests during implementation of the air service/air fare improvements (Reimbursement Form); and to monitor and evaluate the effectiveness of the project being implemented with federal funding provided under the Small Community Program (Final Report).

Respondents: Eligible local communities or consortia of communities and/or local airports serving those communities.

Estimated Number of Respondents: 380. This consists of approximately 100 grant applicants each year; 120 grant recipients filing enplanement reports and reimbursement requests; and 40 grant recipients filing final reports each year.

Estimated Total Burden on Respondents: 13,200 hours. This consists of 8,000 hours for the application process; 480 hours for enplanement reports; 400 hours for final reports, and 4,320 hours for reimbursement requests. For applications, this assumes a maximum of 80 hours to prepare an application for 100 respondents; one hour each to complete the enplanement report four times per year assuming 120 grant recipients; ten hours to complete the final report, assuming 40 grant recipients file final reports each year; and three hours to complete a reimbursement request, assuming 120 grant recipients file one reimbursement request each month. With the exception of the reimbursement requests, which must include an original signature and supporting documentation, respondents are permitted to submit the collection data electronically to the Department. The Department expects to transition into an electronic submission system for reimbursement requests within the next 12 months.

Comments are invited on: (a) Whether the proposed collection of information is reasonable for the proper performance of the grant award functions of the Department under the Small Community Program, including whether the information will have practical utility; (b) the accuracy of the Department's estimate of the burden of the proposed information collection; (c) ways to enhance the quality, utility and clarity of the information collection; and (d) ways to minimize the burden of the collection of information on respondents, including the use of automated collection techniques or other forms of information technology.

All responses to this notice will be summarized and included in the request for OMB approval. All comments will also become a matter of public record.

Issued in Washington, DC, on April 13, 2006.
Todd Homan,
Acting Director, Office of Aviation Analysis.

[FR Doc. E6-5838 Filed 4-18-06; 8:45 am]

BILLING CODE 4910-9X-P